INTERNATIONAL TRADE COMMISSION

[USITC SE-11-006]

Government In the Sunshine Act Meeting Notice

AGENCY HOLDING THE MEETING: United States International Trade Commission.

TIME AND DATE: March 15, 2011 at 11 a.m.

PLACE: Room 110, 500 E Street, SW., Washington, DC 20436, Telephone: (202) 205-2000.

STATUS: Open to the public

MATTERS TO BE CONSIDERED: 1. Agendas for future meetings: none

2. Minutes

3. Ratification List

4. Vote in Inv. Nos. 731-TA-1063, 1064, and 1066-1068 (Review)(Frozen Warmwater Shrimp from Brazil, China, India, Thailand, and Vietnam). The Commission is currently scheduled to transmit its determinations and Commissioners' opinions to the Secretary of Commerce on or before March 30, 2011.

5. Outstanding action jackets:

(1.) Document No. GC-10-281 concerning Inv. No. 337-TA-722 (Certain Automotive Vehicles and Designs Therefore).

(2.) Document No. GC-11-011 concerning Inv. No. 337-TA-568 (Remand)(Certain Products and Pharmaceutical Compositions Containing Recombinant Human Erythropoetin).

(3.) Document No. GC-11-013 concerning Inv. No. 337-TA-587 (Remand)(Certain Connecting Devices (“Quick Clamps”) for Use with Modular Compressed Air Conditioning Units, Including Filters, Regulators, and Lubricators (“FRL's”) That are Part of Larger Pneumatic Systems and the FRL Units They Connect).

(4.) Document No. GC-11-045 concerning Inv. No. 1205-9 (Certain Festive Articles).

In accordance with Commission policy, subject matter listed above, not disposed of at the scheduled meeting, may be carried over to the agenda of the following meeting. Earlier Notification of this meeting was not possible.

By order of the Commission.
Issued: March 7, 2011.
William R. Bishop,
Hearings and Meetings Coordinator.

[FR Doc. 2011-5676 Filed 3-8-11; 4:15 pm]

BILLING CODE 7020-02-P